DEPARTMENT OF AGRICULTURE

Forest Service

Superior National Forest; Minnesota; Application for Withdrawal

AGENCY: Forest Service, USDA.

ACTION: Notice of cancellation of preparation of an environmental impact statement.

SUMMARY: The Superior National Forest is issuing this notice to advise the public that an environmental impact statement (EIS) will no longer be prepared for the Application for Withdrawal Project. The notice of intent to prepare an EIS was published in the Federal Register on January 13, 2017 (82 FR 4282). An environmental asessment (EA) will be prepared in lieu of an EIS. At this time, a Forest Plan Amendment is not being prepared.

FOR FURTHER INFORMATION CONTACT: Questions concerning this notice should be directed to Matthew Judd, Superior National Forest Minerals Project Coordinator, via mail at 8901 Grand Ave. Pl., Duluth, MN 55808, telephone at (218) 626-4300, or email at mjudd@fs.fed.us.

SUPPLEMENTARY INFORMATION: The United States Department of Agriculture, Forest Service (USFS) submitted an application on January 5, 2017 to the Secretary of the Interior proposing to withdraw lands from disposition under United States mineral and geothermal leasing laws (subject to valid existing rights) for a period of 20 years.

All the National Forest System (NFS) lands identified in this application are described in Appendix A and displayed on a map in Appendix B of the withdrawal application. This application is available upon request at the Superior National Forest office at 8901 Grand Ave. Place, Duluth, MN 55808 or online at http://go.usa.gov/xnfQh.

The areas described contain approximately 234,328 acres of NFS lands that overlay Federally-owned minerals in Cook, Lake, and Saint Louis Counties, Minnesota located adjacent to the Boundary Waters Canoe Area Wilderness (BWCAW) and the Boundary Waters Canoe Area Wilderness Mining Protection Area (MPA). The Forest Service will prepare an EA in lieu of an EIS because no significant environmental impacts are anticipated with the proposed action.

Lead and Cooperating Agencies

The USFS is the lead agency in preparation of the EA. The USFS has designated the Department of the Interior, Bureau of Land Management (BLM) as a cooperating agency. The BLM will independently evaluate and review the EA and any other documents needed for the Secretary of Interior to make a decision on the proposed withdrawal.

Nature of Decision To Be Made

Public scoping was conducted following the original publication of the notice of intent to prepare an EIS, and included three public listening sessions held in Duluth, Minnesota on March 16, 2017, St. Paul, Minnesota on July 17, 2017, and Virgina, Minnesota on July 25, 2017. Over 80,000 comment letters submitted during scoping represented the full range of public sentiment, from strong support to strong opposition. The Forest Service is using the information received in public comments along with a review of environmental, social and economic information to prepare the EA. The BLM is responsible for ensuring the analysis and documentation address Department of the Interior regulations. The BLM will determine if there is a Finding of No Significant Impact. The USFS expects to complete the EA in late 2018 before the mineral segregation expires in January 2019. The Secretary of Interior is the authorized official to approve a proposal for withdrawal.

Dated: March 28, 2018.
Glenn P. Casamassa,
Associate Deputy Chief, National Forest System.

[FR Doc. 2018-10030 Filed 5-10-18; 8:45 am]

BILLING CODE 3411-15-P